DEPARTMENT OF COMMERCE

National Oceanic and Atmospheric Administration

[I.D. 022603B]

Proposed Information Collection; Comment Request; Gulf of Mexico Red Snapper Individual Fishing Quota Referendum Data Collection

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 5, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Phil Steele, Department of Commerce, NOAA, National Marine Fisheries Service, 9721 Executive Center Drive North, St, Petersburg, FL 33702-2439, (727) 570-5305.

SUPPLEMENTARY INFORMATION:

I. Abstract

This data collection is needed for the Secretary of Commerce (Secretary) to properly implement the referendum procedures specified in Section 407(c) of the Magnuson-Stevens Fishery Conservation and Management Act (U.S.C. 1801 et seq.). The Act provides that on or after October 1, 2000, the Gulf of Mexico Fishery Management Council (Council) may prepare and submit a fishery management plan, plan amendment, or regulation for the Gulf of Mexico commercial red snapper fishery that creates an individual fishing quota (IFQ) program or that authorizes the consolidation of licenses, permits, or endorsements that result in different trip limits for vessels in the same class. These actions can only take place if the preparation of such plan, amendment, or regulation is approved in a referendum, and only if the submission to the Secretary of such plan, amendment, or regulation is approved in a subsequent referendum.

Only a person who held an annual vessel permit with a red snapper endorsement for such permit on September 1, 1996 (or any person to whom such permit with such endorsement was transferred after such date) and vessel captains who harvested red snapper in a commercial fishery using such endorsement in each red snapper fishing season occurring between January 1, 1993, and such date (i.e., September 1, 1996) may vote in the referendums.

II. Method of Collection

The Secretary, at the request of the Council, will conduct these referendums. The Secretary has sufficient data, collected under OMB approval 0648-0205, needed to contact persons who held an annual vessel permit with a red snapper endorsement for such permit on September 1, 1996 (or any person to whom such permit with such endorsement was transferred after such date). However, the Secretary does not have such data on the vessel captains who harvested red snapper in a commercial fishery using such endorsement in each specified fishing season. Therefore, the Secretary will use several communication methods to attempt to identify such captains and make them aware of the referendum procedures. One possible communication method that involves data collection would be a request for detailed information from persons with a vessel permit with a red snapper endorsement, regarding vessel captains who harvested red snapper using such endorsement in each specified fishing season.

Prior to each referendum, the Secretary, in consultation with the Council, shall (a) identify and notify all such persons holding permits with red snapper endorsements and all such vessel captains; and (b) make available to all such persons and vessel captains information about the schedule, procedures, and eligibility requirements for the referendum and the proposed individual fishing quota program. Submission of the paper questionnaires would be voluntary.

III. Data

OMB Number: None.

Form Number: None.

Type of Review: Regular submission.

Affected Public: Business or other for-profit organizations.

Estimated Number of Respondents: 200.

Estimated Time Per Response: 10 minutes for a response to an initial referendum on preparation; 20 minutes for a response to a subsequent referendum; and 10 minutes per response for any information request regarding vessel captains.

Estimated Total Annual Burden Hours: 102.

Estimated Total Annual Cost to Public: $122. (Costs exclude valuation of respondents' time.)

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 25, 2003.
Gwellnar Banks,
Management Analyst, Office of the Chief Information Officer.

[FR Doc. 03-5047 Filed 3-3-03; 8:45 am]

BILLING CODE 3510-22-S